DEPARTMENT OF THE INTERIOR

Bureau of Land Management

[LLHQ260000.L10600000.PC0000.LXSIADVSBD00.22X]

Wild Horse and Burro Advisory Board Meeting

AGENCY: Bureau of Land Management, Interior.

ACTION: Notice of meeting.

SUMMARY: In accordance with the Federal Land Policy and Management Act of 1976 and the Federal Advisory Committee Act of 1972, the U.S. Department of the Interior, Bureau of Land Management (BLM) Wild Horse and Burro Advisory Board (Board) will hold a public meeting.

DATES: October 4-6, 2022, from 8:00 a.m. to 5:30 p.m. Pacific Time (PT).

ADDRESSES: The Board will meet in-person in Phoenix, Arizona at the BLM National Training Center located at 9828 N 31st Avenue. This meeting is open to the public. Members of the public are invited to attend in-person or virtually. The virtual platform will be held via the Zoom Webinar. Information on how to register, login, and participate in the virtual platform will be announced at least 15 days in advance of the meeting at www.blm.gov/programs/wild-horse-and-burro/get-involved/advisory-board.

The final agenda will also be posted 2 weeks prior to the meeting and can be found on the following website: www.blm.gov/programs/wild-horse-and-burro/get-involved/advisory-board.

FOR FURTHER INFORMATION CONTACT: Dorothea Boothe, Wild Horse and Burro Program Coordinator: telephone: (602) 906-5543, email: dboothe@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board advises the Secretary of the Interior, through the BLM Director, and the Secretary of Agriculture, through the Chief of the U.S. Forest Service on matters pertaining to the management and protection of wild, free-roaming horses and burros on the Nation's public lands. The Board operates under the authority of 43 CFR 1784.

Advisory Board Meeting Agenda

Tuesday, October 4, 2022

Session 1—8:00 a.m. to 9:30 a.m. PT

• Advisory Board subcommittee meeting on Collaboration with BLM and U.S. Forest Service

Break—9:30 a.m. to 9:45 a.m. PT

Session 2—9:45 a.m. to 11:15 a.m. PT

• Advisory Board subcommittee meeting on Comprehensive Ecosystem Approach to Management

Lunch—11:15 a.m. to 12:45 p.m. PT

Session 3—12:45 p.m. to 2:45 p.m. PT

• Advisory Board subcommittee meeting on Humane Treatment and Communication

Break—2:45 p.m. to 3:00 p.m. PT

Session 4—3:00 p.m. to 4:00 p.m. PT

• Public comment period (first)

Wednesday, October 5, 2022

Session 5—8:00 a.m. to 9:30 a.m. PT

• Meeting called to order

• Welcome remarks and administrative announcements

• Approval of minutes: June/July 2021

• BLM and U.S. Forest Service responses to Board recommendations from June/July 2021 Board meeting

• BLM Arizona welcome and Wild Horse and Burro Program overview

Break—9:30 a.m. to 9:45 a.m. PT

Session 6—9:45 a.m. to 12:15 p.m. PT

• BLM and U.S. Forest Service program updates

• BLM budget update for FY2023

Lunch Break—12:15 p.m. to 1:30 p.m. PT

Session 7—1:30 p.m. to 2:30 p.m. PT

• Public comment period (second)

Break—2:30 p.m. to 2:45 p.m. PT

Session 8—2:45 p.m. to 5:30 p.m. PT

• Comprehensive Animal Welfare Program update

• Animal health and preventative care panel discussion

Thursday, October 6, 2022

Session 9—8:00 a.m. to 9:30 a.m. PT

• BLM research program update

• BLM Arizona wild burro pilot project

Break—9:30 a.m. to 9:45 a.m. PT

Session 10—9:45 a.m. to 10:45 a.m. PT

• BLM Adoption Incentive Program update

Session 11—10:45 a.m. to 12:00 p.m. PT

• Advisory Board subcommittee discussions and draft recommendations

Lunch—12:00 p.m. to 1:30 p.m. PT

Session 12—1:30 p.m. to 3:30 p.m. PT

• Public comment period (third)

Break—3:30 p.m. to 3:45 p.m.

Session 13—3:45 p.m. to 5:30 p.m. PT

• Advisory Board discussion and finalize recommendations (Board vote)

Adjournment

Agenda may be subject to change.

Beyond live captioning, any person(s) with special needs, such as for an auxiliary aid, interpreting service, assistive listening device, or materials in an alternate format, must notify Ms. Boothe 2 weeks before the scheduled meeting date. It is important to adhere to the 2-week notice to allow enough time to arrange for the auxiliary aid or special service.

Public Comment Procedures

The BLM and the U.S. Forest Service (USFS) welcome comments from all interested parties. Members of the public participating virtually and in-person will have opportunities to make comments to the Board regarding the Wild Horse and Burro Program on Tuesday, October 4, from 3:00 p.m. to 4:00 p.m. PT, Wednesday, October 5, from 1:30 p.m. to 2:30 p.m. PT, and on Thursday, October 6, from 1:30 p.m. to 3:30 p.m. PT. To accommodate all individuals interested in providing comments, individuals must register with the BLM at least 3 days in advance of the meetings. To register, please go to the website listed in the ADDRESSES section. Individuals who have not registered in advance but would like to offer comments will be permitted if time allows. The Board may limit the length of comments, depending on the number of participants who register in advance. Written comments should be emailed to BLM_WO_Advisory_Board_Comments@blm.gov and include “Advisory Board Comment” in the subject line of your email at least 3 days prior to the meeting. All written comments will be provided to the Board for consideration during the meeting. The BLM will record the entire meeting, including the allotted public comment sessions. Comments should be specific and explain the reason for the recommendation(s). Comments supported by quantitative information, studies, or those that include citations and analysis of applicable laws and regulations are most beneficial, more useful, and likely to assist the decision-making process for the management and protection of wild horses and burros.

Before including your address, phone number, email address, or other personal identifying information in your comment, you should be aware that your entire comment—including your personal identifying information—may be made publicly available at any time. While you can ask us in your comment to withhold your personal identifying information from public review, the BLM cannot guarantee that it will be able to do so.

(Authority: 43 CFR 1784.4-2)

Brian St. George,
Deputy Assistant Director, Resources and Planning.

[FR Doc. 2022-18631 Filed 8-29-22; 8:45 am]

BILLING CODE 4310-84-P